DEPARTMENT OF LABOR

Employment and Training Administration

TA-W-61,712

Ghn Neon Incorporated; Garden Grove, CA; Notice of Termination of Investigation

Pursuant to section 221 of the Trade Act of 1974, as amended, an investigation was initiated on June 20, 2007 in response to a petition filed by a company official on behalf of workers at GHN Neon Incorporated, Garden Grove, California.

The petitioner has requested that the petition be withdrawn. Consequently, the investigation has been terminated.

Signed in Washington, DC, this 28th day of June 2007.
Linda G. Poole,
Certifying Officer, Division of Trade Adjustment Assistance.

[FR Doc. E7-13172 Filed 7-6-07; 8:45 am]

BILLING CODE 4510-FN-P